DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-019. Applicant: Texas A & M Research Foundation, 3578 TAMU—Dulie Bell Bldg., College Station, TX 77843-3578. Instrument: Scanning Hall Probe Microscope. Manufacturer: NanoMagnetics Instruments Ltd., United Kingdom.

Intended Use: The instrument is intended to be used to investigate:

1. The magnetic field properties of mesoscopically patterned thin films and nanostructured clusters of single magnet molecules for use as dense magnetic memories and in quantum computing.

2. The influence of periodic or randomly varying magnetic fields on the properties of thin films of superconductors, ordinary conductors, semiconductors and other magnetic materials at temperatures as low as 2 K.

3. The development of magnetic microstructures for diamagnetic levitation and manipulation of small particles and droplets.

The Instrument will also be used in courses on microscale magnetic field properties. Application accepted by Commissioner of Customs: October 7, 2004.

Gerald A. Zerdy,
Program Manager, Statutory Import Programs Staff.

[FR Doc. 04-23955 Filed 10-25-04; 8:45 am]

BILLING CODE 3510-DS-P